DEPARTMENT OF THE INTERIOR

Bureau of Land Management

[AA-6683-G, AA-6683-A2; LLAK940000-L14100000-HY0000-P]

Alaska Native Claims Selection

AGENCY: Bureau of Land Management, Interior.

ACTION: Notice of Decision Approving Lands for Conveyance

SUMMARY: As required by 43 CFR 2650.7(d), notice is hereby given that an appealable decision will be issued by the Bureau of Land Management (BLM) to Stuyahok, Limited. The decision approves the surface estate in the lands described below for conveyance pursuant to the Alaska Native Claims Settlement Act (43 U.S.C. 1601, et seq.). The subsurface estate in these lands will be conveyed to Bristol Bay Native Corporation when the surface estate is conveyed to Stuyahok, Limited. The lands are in the vicinity of New Stuyahok, Alaska, and are located in:

Seward Meridian, Alaska

T. 7 S., R. 45 W.,

Sec. 5.

Containing 640 acres.

T. 7 S., R. 48 W.,

Sec. 30.

Containing 476.41 acres.

Aggregating 1,116.41 acres.

Notice of the decision will also be published once a week for four consecutive weeks in the Bristol Bay Times.

DATES: Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until December 2, 2013 to file an appeal.

2. Parties receiving service of the decision by certified mail shall have 30 days from the date of receipt to file an appeal.

Parties who do not file an appeal in accordance with the requirements of 43 CFR part 4 shall be deemed to have waived their rights. Notices of appeal transmitted by electronic means, such as facsimile or email, will not be accepted as timely filed.

ADDRESSES: A copy of the decision may be obtained from: Bureau of Land Management, Alaska State Office, 222 West Seventh Avenue, #13, Anchorage, Alaska 99513-7504.

FOR FURTHER INFORMATION CONTACT: The BLM by phone at 907-271-5960 or by email at blm_ak_akso_public_room@blm.gov. Persons who use a Telecommunications Device for the Deaf (TDD) may call the Federal Information Relay Service (FIRS) at 1-800-877-8339 to contact the BLM during normal business hours. In addition, the FIRS is available 24 hours a day, 7 days a week, to leave a message or question with the BLM. The BLM will reply during normal business hours.

Ralph L. Eluska, Sr.,
Land Transfer Resolution Specialist, Division of Lands and Cadastral.

[FR Doc. 2013-25932 Filed 10-30-13; 8:45 am]

BILLING CODE 4310-JA-P